DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open meeting.

SUMMARY: Notice is hereby given of a meeting of the Sanctuary System Business Advisory Council (Council). The meeting is open to the public, and participants may provide comments at the appropriate time during the meeting.

DATES: The meeting will be held Monday, October 19, 2015, from 9:00 a.m. to 5:00 p.m. EST. An opportunity for public comment will be provided at 4:35 p.m. EDT. These times and the agenda topics described below are subject to change.

ADDRESSES: The meeting will be held in the New England Aquarium's Harborside Learning Lab. The lab is located on the ground floor of the Boston Harbor Garage, which is located adjacent to the Aquarium at 70 E India Row, Boston, MA 02110.

FOR FURTHER INFORMATION CONTACT: Rebecca Holyoke, Office of National Marine Sanctuaries, 1305 East West Highway, Silver Spring, Maryland 20910. (Phone: 301-713-7264, Fax: 301-713-0404; email: rebecca.holyoke@noaa.gov).

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustain healthy environments that are the foundation for thriving communities and stable economies. One of the many ways ONMS ensures public participation in the designation and management of national marine sanctuaries is through the formation of advisory councils. The Sanctuary System Business Advisory Council (Council) has been formed to provide advice and recommendations to the Director regarding the relationship of the ONMS with the business community. Additional information on the Council can be found at http://sanctuaries.noaa.gov/management/ac/welcome.html.

Matters To Be Considered: The meeting will provide an opportunity for council representatives to hear how the ONMS is defining its strategic vision, planning for its 50th anniversary, and continuing on a path to engage users and the public in general through new initiatives, techniques, and content. Advisory council representatives will be asked to provide feedback on recent and new outreach and strategic campaigns and initiatives. The agenda is subject to change. The agenda is available at http://beta2.w1.sanctuaries.woc.noaa.gov/management/bac/meetings.html.

Authority: 16 U.S.C. Sections 1431, et seq.

(Federal Domestic Assistance Catalog Number 11.429 Marine Sanctuary Program)

Dated: September 10, 2015.
John Armor,
Acting Director, Office of National Marine Sanctuaries, National Ocean Service, National Oceanic and Atmospheric Administration.

[FR Doc. 2015-25096 Filed 10-1-15; 8:45 am]

BILLING CODE 3510-NK-P